FEDERAL MARITIME COMMISSION

Notice of Agreements Filed

The Commission hereby gives notice of the filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreement are available through the Commission's website (www.fmc.gov) or by contacting the Office of Agreements at (202) 523-5793 or tradeanalysis@fmc.gov.

Agreement No.: 201347-001.

Agreement Name: Sallaum/Hyundai Glovis Space Charter Agreement.

Parties: Hyundai Glovis Co. Ltd.; Sallaum Lines SA.

Filing Party: Wayne Rohde, Cozen O'Connor.

Synopsis: The amendment expands the geographic scope of the Agreement, clarifies language in light of the expansion of the scope, and adds new Articles 5.1(b) and 5.1(c).

Proposed Effective Date: 1/3/2025.

Location: https://www2.fmc.gov/FMC.Agreements.Web/Public/AgreementHistory/33505.

Dated: January 3, 2025.
Alanna Beck,
Federal Register Alternate Liaison Officer.

[FR Doc. 2025-00229 Filed 1-7-25; 8:45 am]

BILLING CODE 6730-02-P